DEPARTMENT OF THE INTERIOR

National Park Service

Final General Management Plan and Environmental Impact Statement for the South Unit of Badlands National Park, South Dakota

AGENCY: National Park Service, Department of the Interior.

ACTION: Notice of availability.

SUMMARY: Pursuant to Section 102(2)(C) of the National Environmental Policy Act of 1969 (42 U.S.C. 4332(2)(C)), the National Park Service (NPS) announces the availability of the Final General Management Plan and Environmental Impact Statement (GMP/EIS) for the South Unit of Badlands National Park, South Dakota.

DATES: The Final GMP/EIS will remain available for public review for 30 days following the publishing of the Notice of Availability in the Federal Register by the Environmental Protection Agency.

ADDRESSES: Copies of the GMP/EIS are available by request by writing to Badlands National Park, P.O. Box 6, Interior, South Dakota 57750, by telephoning 605-433-5361, or by emailing BADL_Superintendent@nps.gov.

The document is available to be picked up in person at Badlands National Park, 25216 Ben Reifel Road, Interior, South Dakota. The document can be found on the internet on the NPS Planning, Environment, and Public Comment Web site at: http://www.parkplanning.nps.gov/badl. It can also be accessed through the Park's home page at http://www.nps.gov/badl.

SUPPLEMENTARY INFORMATION: The NPS prepared a draft GMP/EIS for the South Unit of Badlands National Park combining the plan and an environmental analysis. The GMP provides a framework for making decisions about and managing the South Unit's resources and visitor use for the next 15-20 years.

The draft was made available for public review for 75 days ending November 1, 2010. During the review period, the NPS distributed over 900 copies of the draft. The GMP team held three public open house-style meetings on Pine Ridge Indian Reservation, plus one each in Wall and Rapid City, South Dakota, and Washington, DC, during the comment period. The draft was also made available at the Park offices, on the Internet, and at area libraries.

Over 65 people attended the meetings, where individual comments were recorded. Additional comments were received through letters, comment forms, and electronic messages. A total of 361 comments were received from all sources in response to the Draft GMP. Comments from individuals, groups, and public agencies on the alternatives, the preferred alternative, and the environmentally preferred alternative were considered.

No substantive changes were made to the preferred alternative as a result of public comments received on the Draft GMP/EIS. The preferred alternative will provide for the preservation of natural resources, while offering opportunities for visitor enjoyment of natural, cultural, and recreational resources in a scenic outdoor setting.

FOR FURTHER INFORMATION CONTACT: Contact the Superintendent, Badlands National Park, Interior, South Dakota 57750, telephone 605-4335361.

Dated: September 13, 2011.
Michael T. Reynolds,
Regional Director, Midwest Region.

Editorial Note: This document was received at the Office of the Federal Register April 23, 2012.

[FR Doc. 2012-10132 Filed 4-25-12; 8:45 am]

BILLING CODE 4312-AD-P